COMMODITY FUTURES TRADING COMMISSION

Agency Information Collection Activities; Notice of Intent To Renew Collection: Market Surveys

AGENCY: Commodity Futures Trading Commission

ACTION: Notice.

SUMMARY: The Commodity Futures Trading Commission has submitted information collection 3038-0017, Market Surveys, to OMB for review and clearance under the Paperwork Reduction Act of 1995 (Pub. L. 104-13). The information collected pursuant to these rules is in the public interest and is necessary for market surveillance.

DATES: Comments must be received on or before July 12, 2013.

ADDRESSES: Persons wishing to comment on this information collection regarding the burden estimated or any other aspect of the information collection, including suggestions for reducing the burden, should send comments to the addresses below. Please refer to OMB Control No. 3038-0017 in any correspondence.

Comments may be sent to Gary J. Martinaitis, Division of Market Oversight, U.S. Commodity Futures Trading Commission, 1155 21st Street NW., Washington, DC 20581; (202) 418; Fax (202) 418-5527; or Email: gmartinaitis@cftc.gov. and Office of Information and Regulatory Affairs, Office of Management and Budget, Attention: Desk Officer for CFTC, 725 17th Street NW., Washington, DC 20503.

Comments may also be submitted by any of the following methods: The agency's Web site, at http://comments.cftc.gov. Follow the instructions for submitting comments through the Web site.

Mail: Melissa D. Jurgens, Secretary of the Commission, Commodity Futures Trading Commission, Three Lafayette Centre, 1155 21st Street NW., Washington, DC 20581.

Hand Delivery/Courier: Same as mail above.

Federal eRulemaking Portal: http://www.regulations.gov. Follow the instructions for submitting comments.

Please submit your comments using only one method and identify that it is for the renewal of collection 3038-0017.

All comments must be submitted in English, or if not, accompanied by an English translation. Comments will be posted as received to www.cftc.gov. You should submit only information that you wish to make available publicly. If you wish the Commission to consider information that you believe is exempt from disclosure under the Freedom of Information Act, a petition for confidential treatment of the exempt information may be submitted according to the procedures established in § 145.9 of the Commission's regulations.¹

¹ See 17 CFR 145.9.

FOR FURTHER INFORMATION CONTACT: Gary J. Martinaitis, (202) 418-5209; FAX: (202) 418-5527; email: gmartinaitis@cftc.gov.

SUPPLEMENTARY INFORMATION: An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on April 8, 2013 (78 FR 20898).

Title: Market Surveys (OMB Control No. 3038-0017). This is a request for extension of a currently approved information collection.

Respondents: Businesses (excluding small businesses).

Estimated Annual Burden: 700 total hours.

Respondents | Businesses
Regulation (17 CFR) | 21.02
Estimated number of respondents | 400
Reports annually be each respondents | 1
Total annual responses | 400
Estimated number of hours per response | 1.75

Dated: June 6, 2013.
Melissa D. Jurgens,
Secretary to the Commission.

[FR Doc. 2013-13878 Filed 6-11-13; 8:45 am]

BILLING CODE 6351-01-P